DEPARTMENT OF COMMERCE

National Telecommunications and Information Administration

Performance Review Board; Membership

The following individuals are eligible to serve on the Performance Review Board in accordance with the Senior Executive Service Performance Appraisal System of the National Telecommunications and Information Administration.

Bernadette McGuire-Rivera

William Hatch

Neil Seitz

Frederick Wentland

Ronald Hack

Vicki G. Brooks,
Executive Secretary, Economic Development Administration, Performance Review Board.

[FR Doc. 00-25224 Filed 9-29-00; 8:45 am]

BILLING CODE 3510-BS-M